DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 27, 2008. Address written comments to Statutory Import Programs Staff, Room 2104, U.S. Department of Commerce, Washington, DC 20230. Applications may be examined between 8:30 a.m. and 5 p.m. at the U.S. Department of Commerce in Room 2104.

Docket Number: 07-072. Applicant: University of Washington, 1959 Pacific St., Room J405, Seattle, WA 98105. Instrument: Electron Microscope, Model Tecnai G2 F20 Twin. Manufacturer: FEI Company, Netherlands. Intended Use: The instrument is intended to be used in several different modes for single particle reconstruction and electron crystallography. The instrument will also be used as a teaching instrument to introduce graduate students, postdoctoral fellows and medical school faculty to the elements of protein structure determination by electron microscopy. Application accepted by Commissioner of Customs: January 18, 2008.

Docket Number: 08-002. Applicant: University of Texas at Austin, 204 E. Dean Keeton, Austin, TX 78721. Instrument: Electron Microscope, Model Quanta 600 FEG. Manufacturer: FEI Company, Czech Republic. Intended Use: The instrument is intended to be used to study polymer matrix composites, biological systems, and novel carbon materials. The instrument will also be used in determining microscale structure, including under environmental conditions. Application accepted by Commissioner of Customs: January 18, 2008.

Dated: February 1, 2008.
Faye Robinson,
Director, Statutory Import Programs Staff.

[FR Doc. E8-2276 Filed 2-6-08; 8:45 am]

BILLING CODE 3510-DS-P